DEPARTMENT OF TRANSPORTATION

Federal Aviation Administration

14 CFR Part 95

[Docket No. 31516; Amdt. No. 575]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, November 30, 2023.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg 26, Room 217, Oklahoma City, OK 73099. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on, October 27, 2023.
Thomas J Nichols,
Manager, Aviation Safety, Flight Standards Service, Standards Section, Flight Procedures & Airspace Group, Flight Technologies and Procedures Division.

Adoption of the Amendment

Accordingly, pursuant to the authority delegated to me by the Administrator, part 95 of the Federal Aviation Regulations (14 CFR part 95) is amended as follows effective at 0901 UTC, November 30, 2023.

PART 95—IFR Altitudes

1. The authority citation for part 95 continues to read as follows:

Authority: 49 U.S.C. 106(g), 40103, 40113 and 14 CFR 11.49(b)(2)

2. Part 95 is amended to read as follows:

Revisions to IFR Altitudes & Changeover Point
[Amendment 575 Effective Date November 30, 2023]
From | To | MEA | MAA
§ 95.3000 Low Altitude RNAV Routes
§ 95.3223 RNAV Route T223
Is Amended by Adding
ZIKNI, AK WP | ROGOC, AK FIX | 4000 | 17500
ROGOC, AK FIX | CEKBA, AK FIX | 4400 | 17500
CEKBA, AK FIX | * DILLINGHAM, AK VOR/DME | 4000 | 17500
* 2400—MCA DILLINGHAM, AK VOR/DME, W BND
Is Amended To Delete
CAPE NEWENHAM, AK NDB/DME | DILLINGHAM, AK VOR/DME | 4400 | 17500
Is Amended To Read in Part
DILLINGHAM, AK VOR/DME | ZUNOS, AK FIX | 2200 | 17500
ZUNOS, AK FIX | FAGIN, AK FIX | 5000 | 17500
§ 95.3242 RNAV Route T242
Is Amended by Adding
BARROW, AK VOR/DME | WUPUV, AK WP | * 1900 | 17500
* 1900—MOCA
WUPUV, AK WP | LACIL, AK WP | * 5900 | 17500
* 3000—MOCA
LACIL, AK WP | KUTDE, AK WP | 9500 | 17500
KUTDE, AK WP | TADUE, AK WP | 5900 | 17500
TADUE, AK WP | * JOKAP, AK WP | ** 4000 | 17500
* 10700—MCA JOKAP, AK WP, SE BND
** 3400—MOCA
JOKAP, AK WP | * WEGNO, AK WP | 15300 | 17500
* 12200—MCA WEGNO, AK WP, NW BND
WEGNO, AK WP | * HUMUB, AK WP | 4600 | 17500
* 3100—MCA HUMUB, AK WP, NW BND
HUMUB, AK WP | TALKEETNA, AK VOR/DME | * 3000 | 17500
Is Amended To Delete
* TALKEETNA, AK VOR/DME | JOKAP, AK WP | ** 16000 | 17500
* 12100—MCA TALKEETNA, AK VOR/DME, N BND
** 15300—MOCA
* JOKAP, AK WP | KUTDE, AK WP | 6000 | 17500
* 11500—MCA JOKAP, AK WP, S BND
KUTDE, AK WP | LACIL, AK WP | * 15000 | 17500
* 9400—MOCA
LACIL, AK WP | BARROW, AK VOR/DME | * 8000 | 17500
* 1800—MOCA
§ 95.3356 RNAV Route T356 Is Amended To Read in Part
REESY, PA WP | FOLEZ, PA WP | 2400 | 17500
§ 95.3447 RNAV Route T447 Is Added To Read
SMYRNA, DE VORTAC | CHAZR, DE WP | 1800 | 17500
CHAZR, DE WP | APEER, MD WP | 2000 | 17500
APEER, MD WP | REESY, PA WP | 2000 | 17500
REESY, PA WP | FOLEZ, PA WP | 2400 | 17500
FOLEZ, PA WP | HOSKR, PA WP | 2400 | 17500
HOSKR, PA WP | POTTSTOWN, PA VORTAC | 2400 | 17500
POTTSTOWN, PA VORTAC | HIKES, PA FIX | 2800 | 17500
HIKES, PA FIX | EAST TEXAS, PA VOR/DME | 2900 | 17500
EAST TEXAS, PA VOR/DME | DIANO, PA FIX | * 4200 | 17500
* 3700—MOCA
DIANO, PA FIX | WILLIAMSPORT, PA VOR/DME | 4400 | 17500
WILLIAMSPORT, PA VOR/DME | DLMAR, PA WP | 4800 | 17500
§ 95.3449 RNAV Route T449 Is Added To Read
KITHE, PA FIX | GEERI, PA FIX | 2700 | 17500
GEERI, PA FIX | LANCASTER, PA VOR/DME | * 2400 | 17500
* 1900—MOCA
LANCASTER, PA VOR/DME | KERYN, PA FIX | 3000 | 17500
KERYN, PA FIX | JUPAS, PA FIX | 3400 | 17500
JUPAS, PA FIX | CHLSE, PA FIX | 3300 | 17500
CHLSE, PA FIX | MARRC, PA FIX | 3700 | 17500
MARRC, PA FIX | MEGSS, PA FIX | 3700 | 17500
MEGSS, PA FIX | * MEATS, PA FIX | 3700 | 17500
* 4100—MCA MEATS, PA FIX, N BND
MEATS, PA FIX | * OYUCA, PA FIX | 4900 | 17500
* 4200—MCA OYUCA, PA FIX, S BND
OYUCA, PA FIX | BINGHAMTON, NY VOR/DME | 3700 | 17500
§ 95.3460 RNAV Route T460 Is Added To Read
PHILIPSBURG, PA VORTAC | WILLIAMSPORT, PA VOR/DME | 4900 | 17500
WILLIAMSPORT, PA VOR/DME | NOSEE, PA FIX | 4700 | 17500
NOSEE, PA FIX | * HANCOCK, NY VOR/DME | 4100 | 17500
* 4600—MCA HANCOCK, NY VOR/DME, E BND
HANCOCK, NY VOR/DME | RIMBA, NY FIX | 5800 | 17500
RIMBA, NY FIX | * SAGES, NY FIX | 6400 | 17500
* 6300—MCA SAGES, NY FIX, W BND
SAGES, NY FIX | SASHA, MA FIX | 6100 | 17500
SASHA, MA FIX | TOMES, MA FIX | * 4100 | 17500
* 3500—MOCA
TOMES, MA FIX | BARNES, MA VORTAC | 3400 | 17500
BARNES, MA VORTAC | GLYDE, MA FIX | 3000 | 17500
§ 95.3469 RNAV Route T469 Is Added To Read
TASEY, TX WP | RICH MOUNTAIN, OK VORTAC | 4300 | 17500
§ 95.3472 RNAV Route T472 Is Added To Read
TASEY, TX WP | HOT SPRINGS, AR VOR/DME | 3000 | 17500
§ 95.3479 RNAV Route T479 Is Added To Read
DNVIL, VA WP | ENTUK, VA FIX | 2800 | 17500
ENTUK, VA FIX | PIGGS, VA FIX | 3500 | 17500
PIGGS, VA FIX | * DEWET, VA FIX | 3600 | 17500
* 4300—MCA DEWET, VA FIX, NW BND
DEWET, VA FIX | DBRAH, VA WP | 5300 | 17500
DBRAH, VA WP | NATTS, WV FIX | 6000 | 17500
NATTS, WV FIX | VELLI, WV FIX | 7000 | 17500
VELLI, WV FIX | AHCIN, WV FIX | 6900 | 17500
AHCIN, WV FIX | ELKINS, WV VORTAC | * 5900 | 17500
* 5300—MOCA
§ 95.4000 High Altitude RNAV Route
§ 95.4445 RNAV Route Q445 Is Amended To Delete
PAACK, NC WP | JAMIE, VA FIX | * 18000 | 45000
* 18000-GNSS MEA
* DME/DME/IRU MEA
JAMIE, VA FIX | CONFR, MD WP | * 18000 | 45000
* 18000-GNSS MEA
* DME/DME/IRU MEA
CONFR, MD WP | RADDS, DE FIX | * 18000 | 45000
* 18000-GNSS MEA
* DME/DME/IRU MEA
RADDS, DE FIX | WNSTN, NJ WP | * 18000 | 45000
* 18000-GNSS MEA
* DME/DME/IRU MEA
WNSTN, NJ WP | AVALO, NJ FIX | * 18000 | 45000
* 18000-GNSS MEA
* DME/DME/IRU MEA
AVALO, NJ FIX | BRIGS, NJ FIX | * 18000 | 45000
* 18000-GNSS MEA
* DME/DME/IRU MEA
BRIGS, NJ FIX | SHAUP, OA WP | * 18000 | 45000
* 18000-GNSS MEA
* DME/DME/IRU MEA

From | To | MEA
§ 95.6001 Victor Route—U.S.
§ 95.6010 VOR Federal Airway V10 Is Amended To Delete
YOUNGSTOWN, OH VORTAC | VOLAN, PA FIX | * 5000
* 3000—MOCA
* 3000—GNSS MEA
VOLAN, PA FIX | TALLS, PA WP | * 5000
* 3200—MOCA
* 3300—GNSS MEA
TALLS, PA WP | * REVLOC, PA VOR/DME
| SE BND | 4200
| NW BND | 5000
* 5000—MCA REVLOC, PA VOR/DME, SE BND
REVLOC, PA VOR/DME | JUNEY, PA FIX | * 5000 MAA—12000
* 5000—GNSS MEA
JUNEY, PA FIX | LANCASTER, PA VOR/DME | * 5000
* 3600—MOCA
§ 95.6020 VOR Federal Airway V20 Is Amended To Read in Part
MONROEVILLE, AL VORTAC | MONTGOMERY, AL VORTAC | 2300
§ 95.6075 VOR Federal Airway V75 Is Amended To Read in Part
BELLAIRE, OH VOR/DME | ATWOO, OH FIX | * 6000
* 3100—MOCA
§ 95.6097 VOR Federal Airway V97 Is Amended To Read in Part
LA BELLE, FL VORTAC | ROGAN, FL FIX
| SE BND | * 2000
| NW BND | * 5000
* 2000—GNSS MEA
§ 95.6103 VOR Federal Airway V103 Is Amended To Read in Part
CLARKSBURG, WV VOR/DME | BELLAIRE, OH VOR/DME | * 3400
* CLARKSBURG R-335 UNUSABLE, USE BELLAIR R-158
BELLAIRE, OH VOR/DME | ATWOO, OH FIX | * 6000
* 3100—MOCA
ATWOO, OH FIX | AKRON, OH VOR/DME | 3100
§ 95.6123 VOR Federal Airway V123 Is Amended To Read in Part
ALBANY, NY VORTAC | CAMBRIDGE, NY VOR/DME | * 4000
* ALBANY R-067 UNUSABLE, USE CAMBRIDGE R-248
§ 95.6137 VOR Federal Airway V137 Is Amended To Read in Part
IMPERIAL, CA VORTAC | BRAWL, CA FIX | * 3700
* 2300—MOCA
§ 95.6210 VOR Federal Airway V210 Is Amended To Delete
REVLOC, PA VOR/DME | BLINK, PA FIX | 4500
BLINK, PA FIX | HARRISBURG, PA VORTAC | 4000
§ 95.6314 VOR Federal Airway V314 Is Amended To Delete
U.S. CANADIAN BORDER | PATTA, ME WP | * 6000
* 3900—MOCA
PATTA, ME WP | MILLINOCKET, ME VOR/DME | * 6000
* 3900—MOCA
§ 95.6388 VOR Federal Airway V388
Is Amended by Adding
SEAL BEACH, CA VORTAC | AHEIM, CA FIX | * 3000
* 2200—MOCA
AHEIM, CA FIX | DOWDD, CA FIX | 4000
DOWDD, CA FIX | PARADISE, CA VORTAC | 4400
Is Amended To Read in Part
PARADISE, CA VORTAC | ACINS, CA FIX
| W BND | * 5300
| E BND | * 7000
* 5300—MOCA
§ 95.6395 VOR Federal Airway V395 Is Amended To Read in Part
NOGALES, AZ VOR/DME | U.S. MEXICAN BORDER | * 10000
* 8000—MOCA
§ 95.6456 VOR Federal Airway V456 Is Amended To Delete
MANKATO, MN VOR/DME | FLYING CLOUD, MN VOR/DME | * 2900
* 2400—MOCA
§ 95.6469 VOR Federal Airway V469 Is Amended To Delete
JOHNSTOWN, PA VOR/DME | ST THOMAS, PA TACAN | 5000
ST THOMAS, PA TACAN | BADDI, PA FIX | * 5000
* 4000—MOCA
BADDI, PA FIX | HARRISBURG, PA VORTAC | 4000
§ 95.6474 VOR Federal Airway V474 Is Amended To Delete
ST THOMAS, PA TACAN | NOENO, PA FIX | * 5000
* 4000—MOCA
NOENO, PA FIX | DELRO, PA FIX | * 5000
* 3400—MOCA
* 3400—GNSS MEA
DELRO, PA FIX | * MODENA, PA VORTAC | ** 10000
* 10000—MCA MODENA, PA VORTAC, W BND
** 4000—GNSS MEA
§ 95.6479 VOR Federal Airway V479 Is Amended To Read in Part
MENGE, NJ FIX | YARDLEY, PA VOR/DME
| N BND | 2000
| S BND | 4000
§ 95.6501 VOR Federal Airway V501
Is Amended by Adding
HAGERSTOWN, MD VOR | GGRIF, PA FIX | 4100
GGRIF, PA FIX | PHILIPSBURG, PA VORTAC | 4900
Is Amended To Delete
HAGERSTOWN, MD VOR | ST THOMAS, PA TACAN | 4000
ST THOMAS, PA TACAN | PHILIPSBURG, PA VORTAC | * 4500
* 4000—MOCA
§ 95.6402 Hawaii VOR Federal Airway V2 Is Amended To Read in Part
LANAI, HI VORTAC | KEIKI, HI FIX | 5000
§ 95.6421 Hawaii VOR Federal Airway V21 Is Amended To Read in Part
LANAI, HI VORTAC | KEIKI, HI FIX | 5000

Airway Segment: From | Changeover Points: To | Changeover Points: Distance | Changeover Points: From
§ 95.8003 VOR Federal Airways Changeover Points
V501 Is Amended To Delete Changeover Point
ST THOMAS, PA VORTAC | PHILIPSBURG, PA VORTAC | 22 | ST THOMAS.
§ 95.8005 JET Route Changeover Points
J523 Is Amended To Modify Changeover Point
BRYCE CANYON, UT VORTAC | ELY, NV VOR/DME | 134 | BRYCE CANYON.

[FR Doc. 2023-24424 Filed 11-3-23; 8:45 am]

BILLING CODE 4910-13-P